SECURITIES AND EXCHANGE COMMISSION

Sunshine Act Meeting

Federal Register Citation of Previous Announcement: [74 FR 57718, November 9, 2009].

Status: Closed meeting.

Place: 100 F Street, NE.,Washington, DC.

Date and Time of Previously Announced Meeting: November 12, 2009 at 2 p.m.

Change in the Meeting: Additional Item.

The following matter will also be considered during the 2 p.m. closed meeting scheduled for Thursday, November 12, 2009, at 2 p.m.: Consideration of Amicus participation.

Commissioner Paredes, as duty officer, voted to consider the item listed for the closed meeting in closed session, and determined that no earlier notice thereof was possible.

At times, changes in Commission priorities require alterations in the scheduling of meeting items. For further information and to ascertain what, if any, matters have been added, deleted or postponed, please contact the Office of the Secretary at (202) 551-5400.

Dated: November 10, 2009.
Elizabeth M. Murphy,
Secretary.

[FR Doc. E9-27443 Filed 11-12-09; 11:15 am]

BILLING CODE 8011-01-P